DEPARTMENT OF TRANSPORTATION

Federal Aviation Administration

Fifteenth RTCA SC-229 406 MHz ELT Joint Plenary With EUROCAE Working Group 98

AGENCY: Federal Aviation Administration (FAA), U.S. Department of Transportation (DOT).

ACTION: Fifteenth RTCA SC-229 406 MHz ELT Joint Plenary with EUROCAE Working Group 98.

SUMMARY: The FAA is issuing this notice to advise the public of a meeting of Fifteenth RTCA SC-229 406 MHz ELT Joint Plenary with EUROCAE Working Group 98.

DATES: The meeting will be held June 18-22, 2018, 9:00 a.m.-5:00 p.m.

ADDRESSES: The meeting will be held at: RTCA Headquarters, 1150 18th Street NW, Suite 910, Washington, DC 20036.

FOR FURTHER INFORMATION CONTACT: Rebecca Morrison at rmorrison@rtca.org or 202-330-0654, or The RTCA Secretariat, 1150 18th Street NW, Suite 910, Washington, DC 20036, or by telephone at (202) 833-9339, fax at (202) 833-9434, or website at http://www.rtca.org.

SUPPLEMENTARY INFORMATION: Pursuant to section 10(a)(2) of the Federal Advisory Committee Act (Pub. L. 92-463, 5 U.S.C., App.), notice is hereby given for a meeting of the Fifteenth RTCA SC-229 406 MHz ELT Joint Plenary with EUROCAE Working Group 98. The agenda will include the following:

Monday June 18, 2018, 9:00 a.m.-5:00 p.m.

1. Welcome/Introductions/Administrative Remarks/DFO FAA Statement

2. Agenda Overview and Approval

3. Minutes Toulouse Meeting Review and Approval

4. Week's Plan

5. Working Group of the Whole Meeting (Rest of the Day) to Review the Structure Changes

Tuesday June 19, 2018, 9:00 a.m.-5:00 p.m.

6. Working Group of the Whole Meeting to Review the Structure Changes

Wednesday June 20, 2018, 9:00 a.m.-5:00 p.m.

7. Working Group of the Whole Meeting to Review the Structure Changes

Thursday June 21, 2018, 9:00 a.m.-5:00 p.m.

8. Working Group of the Whole Meeting to Review the Structure Changes

Friday June 22, 2018, 9:00 a.m.-4:00 p.m.

9. Action Item Review

10. Consider a Motion to Open Final Review and Comment/Open Consultation on the Revision to RTCA/DO-204B, EUROCAE ED-62B

11. Future Meeting Plans and Dates for Formal Frac/Open Consultation

12. Presentations

13. Other Business

14. Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on April 9, 2018.
Michelle Swearingen,
Systems and Equipment Standards Branch, AIR-6B0, Policy and Innovation Division, AIR-600, Federal Aviation Administration.

[FR Doc. 2018-07570 Filed 4-11-18; 8:45 am]

BILLING CODE 4910-13-P